DEPARTMENT OF INTERIOR

National Park Service

Notice of Continuation of Visitor Services

AGENCY: National Park Service, Interior.

ACTION: Public notice.

DATES: Effective Date: October 1, 2007.

FOR FURTHER INFORMATION CONTACT: Jo A. Pendry, Concession Program Manager, National Park Service, Washington, DC 20240, Telephone, 202/513-7156.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Concession
Contract number | Concessioner name | Park
BIBE002-82 | Forever NPC Resorts, LLC | Big Bend National Park.
LAME004-88 | Lake Mead Ferry Service, Inc | Lake Mead National Recreation Area.
OLYM003-82 | Forever NPC Resorts, LLC | Olympic National Park.
SLBE005-87 | G. Michael Grosvenor | Sleeping Bear Dunes National Lakeshore.
STLI001-89 | Circle Line-Statue of Liberty Ferry, Inc | Statue of Liberty National Monument.

Dated: October 3, 2007.
Katherine H. Stevenson,
Acting Assistant Director, Business Services.

[FR Doc. 07-5924 Filed 12-3-07; 8:45 am]

BILLING CODE 4312-53-M